NATIONAL ARCHIVES AND RECORDS ADMINISTRATION

[NARA-2015-023]

Agency Information Collection Activities: Submission for OMB Review; Comment Request

AGENCY: National Archives and Records Administration (NARA).

ACTION: Second notice of information collection.

SUMMARY: NARA is giving public notice that we have submitted to OMB for approval the information collection described in this notice. We invite people to comment on the proposed information collection, pursuant to the Paperwork Reduction Act of 1995.

DATES: Please submit any comments to OMB, at the address below, on or before February 23, 2015 to be assured of consideration.

ADDRESSES: Send comments to Nicholas A. Fraser, Desk Officer for NARA; by mail to: Office of Management and Budget; New Executive Office Building; Washington, DC 20503; by fax to: 202-395-5167; or by email to: Nicholas_A._Fraser@omb.eop.gov.

FOR FURTHER INFORMATION CONTACT: You may request additional information or copies of the proposed information collection and supporting statement from Tamee Fechhelm, by telephone at: 301-837-1694, or by fax at: 301-713-7409.

SUPPLEMENTARY INFORMATION: Pursuant to the Paperwork Reduction Act of 1995 (Pub. L. 104-13), NARA invites the general public and other Federal agencies to comment on proposed information collections. We published a notice of proposed collection for this information collection on October 28, 2014 (79 FR 64219), and received no comments. We have thus submitted the described information collection to OMB for approval.

In response to this notice, comments and suggestions should address one or more of the following points: (a) Whether the proposed information collection is necessary for NARA's proper performance of its functions; (b) the accuracy of NARA's estimate of the burden of the proposed information collection; (c) ways to enhance the quality, utility, and clarity of the information to be collected; (d) ways to minimize the burden of the collection of information on respondents, including the use of information technology; and (e) whether small businesses are affected by this collection. In this notice, NARA solicits comments concerning the following information collection:

Title: Request Pertaining to Military Records.

OMB number: 3095-0029.

Agency form number: SF 180.

Type of review: Regular.

Affected public: Veterans, their authorized representatives, state and local governments, and businesses.

Estimated number of respondents: 1,028,769.

Estimated time per response: 5 minutes.

Frequency of response: On occasion (when respondents wish to request information from a military personnel record).

Estimated total annual burden hours: 85,731 hours.

Abstract: The authority for this information collection is 36 CFR 1233.18. In accordance with rules issued by the Department of Defense (DOD) and Department of Homeland Security (DHS, U.S. Coast Guard), NARA's National Personnel Records Center (NPRC) administers veterans' military service records after discharge, retirement, or death. When veterans and other authorized individuals request information from, or copies of, documents in military service records, they must provide certain information about the veteran and the nature of the request. Federal agencies, military departments, veterans, veterans' organizations, and the general public use Standard Form (SF) 180, Request Pertaining to Military Records, to request information from military service records stored at NPRC. Veterans and next-of-kin of deceased veterans can also use eVetRecs (http://www.archives.gov/research_room/vetrecs/) to order copies.

Dated: January 15, 2015.
Swarnali Haldar,
Executive for Information Services/CIO.

[FR Doc. 2015-01133 Filed 1-22-15; 8:45 am]

BILLING CODE 7515-01-P